FEDERAL COMMUNICATIONS COMMISSION

47 CFR Part 76

[CS Docket No. 98-132; FCC 01-314]

1998 Biennial Review—Multichannel Video and Cable Television Service

AGENCY: Federal Communications Commission.

ACTION: Final rule; announcement of effective date.

SUMMARY: This document announces the effective date of an amendment to our rules pertaining to the public file, notice, recordkeeping, and reporting requirements adopted in the Second Report and Order in CS Docket No. 98-132 in the Commission's biennial review of the public file and notice requirements concerning cable television. Section 76.1700(a) relieves cable systems serving 1000 or more, but fewer than 5000 subscribers, from certain recordkeeping requirements associated with maintaining the public file, requiring public file information to be provided only upon request. A summary of the Second Report and Order was published in the Federal Register at 66 FR 67115 on December 28, 2001.

DATES: Section 76.1700(a), published at 66 FR 67115 (December 28, 2001) became effective on January 28, 2002.

FOR FURTHER INFORMATION CONTACT: Sonia Greenaway-Mickle, Cable Services Bureau, (202) 418-1419.

SUPPLEMENTARY INFORMATION: On March 26, 1999, the Commission released a Report and Order in CS Docket No. 98-132, 65 FR 53610, regarding the Commission's 1998 biennial regulatory review of its regulations conducted pursuant to section 11 of the Telecommunications Act of 1996 and streamlined and reorganized part 76 public file, recordkeeping, and notice requirements. In the Second Report and Order in CS Docket No. 98-132, the Commission adopted section 76.1700(a). Section 76.1700(a) relieves cable systems serving 1000 or more, but fewer than 5000 subscribers, from certain recordkeeping requirements associated with maintaining the public file, requiring public file information to be provided only upon request. A summary of the Second Report and Order was published in the Federal Register at 66 FR 67115 on December 28, 2001. On June 7, 2001, OMB approved the information collection contained in the part 76 rule. OMB 3060-0981. This publication satisfies the statement in the Second Report and Order that the Commission would publish a document in the Federal Register announcing the effective date of that rule.

List of Subjects in 47 CFR Part 76

Federal Communications Commission.
William F. Caton,
Acting Secretary.

[FR Doc. 02-5470 Filed 3-6-02; 8:45 am]

BILLING CODE 6712-01-P